DEPARTMENT OF COMMERCE

National Oceanic and Atmospheric Administration

[I.D. 051303D]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Kodiak, AK.

DATES: The meetings will be held June 9 through June 18, 2003. See SUPPLEMENTARY INFORMATION for specific dates and times. All meetings are open to the public except executive sessions.

ADDRESSES: The meetings will be held at the Best Western Kodiak Inn, 236 Rezanof, Kodiak, AK 99615.

Council address: North Pacific Fishery Management Council, 605 W. 4th Ave., Suite 306, Anchorage, AK 99501-2252.

FOR FURTHER INFORMATION CONTACT: Council staff, phone: 907-271-2809.

SUPPLEMENTARY INFORMATION: The Council's Advisory Panel will begin at 8 a.m., Monday, June 9 and continue through Saturday, June 14, 2003. The Scientific and Statistical Committee will begin at 8 a.m. on Monday, June 9, and continue through Wednesday, June 11, 2003.

The Council will begin its plenary session at 8 a.m. on Wednesday, June 11 continuing through Wednesday June 18.

Council Plenary Session: The agenda for the Council's plenary session will include the following issues. The Council may take appropriate action on any of the issues identified.

1. Reports

(a) Executive Director's Report

(b) Trawl 3rd Wire Report

(c) NMFS Management/Enforcement Reports

2. Gulf of Alaska Rationalization (GOA): Review discussion papers and refine alternatives, elements and options.

3. Programmatic Groundfish Supplemental Environmental Impact Statement (PGSEIS): Select draft preferred alternative.

4. Essential Fish Habitat (EFH)/Habitat Areas of Particular Concern (HAPC): Update on Supplemental Environmental Impact Statement development, report on Coral/Sponge bycatch limits, Committee report on HAPC process.

5. Bering Sea/Aleutian Island (BSAI) Pacific Cod Allocation: Final action on Amendment 77 (fixed gear allocations).

6. Improved Retention/Improved Utilization (IR/IU): Review alternatives and options for Trailing Amendment A (multi-species co-ops for head and gut catcher/processor sector and species allocation). Final action on Trailing Amendment C (minimum retention standards).

7. Steller Sea Lion (SSL): SSL Mitigation Committee Report.

8. Groundfish Management: Target/Non-target workgroup report. BSAI Cod depletion study - Review 1st year results.

9. Crab Management: Initial Review Pribilof Blue King Crab Rebuilding Plan.

10. Staff Tasking: Review tasking and committees and provide direction to staff.

11. Other Business: Approve updated Statement of Organization Practices and Procedures (SOPPs).

Scientific and Statistical Committee (SSC): The SSC agenda will include the following issues:

1. Programmatic Groundfish SEIS

2. Essential Fish Habitat

3. Improved Retention/Improved Utilization

4. Groundfish Management

5. Crab Management

Advisory Panel: The Advisory Panel will address the same agenda issues as the Council.

Although non-emergency issues not contained in this agenda may come before this Council for discussion, in accordance with the Magnuson-Stevens Fishery Conservation and Management Act, these issues may not be the subject of formal Council action during the meeting. Council action will be restricted to those issues specifically identified in the agenda listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at 907-271-2809 at least 7 working days prior to the meeting date.

Dated: May 14, 2003.
Richard W. Surdi,
Acting Director, Office of ustainable Fisheries, National Marine Fisheries Service.

[FR Doc. 03-12740 Filed 5-20-03; 8:45 am]

BILLING CODE 3510-22-S